DEPARTMENT OF HEALTH AND HUMAN SERVICES

Centers for Disease Control and Prevention

Advisory Committee on Breast Cancer in Young Women: Notice of Charter Amendment

This gives notice under the Federal Advisory Committee Act (Pub. L. 92-463) of October 6, 1972, that the Advisory Committee on Breast Cancer in Young Women, National Center for Chronic Disease Prevention and Health Promotion, Department of Health and Human Services, has amended their charter to reflect the change in the filing date. The amended filing date is January 25, 2011.

For information, contact Temeika L. Fairley, M.D., PhD, Designated Federal Officer, Advisory Committee on Breast Cancer in Young Women, National Center for Chronic Disease Prevention and Health Promotion, Department of Health and Human Services, CDC, 4770 Buford Highway, NE., Mailstop K52, Atlanta, Georgia 30341, telephone (770) 488-4518, or fax (770) 488-4760.

The Director, Management Analysis and Services Office, has been delegated the authority to sign Federal Register notices pertaining to announcements of meetings and other committee management activities, for both the Centers for Disease Control and Prevention and the Agency for Toxic Substances and Disease Registry.

Dated: February 14, 2011.
Elaine L. Baker,
Director, Management Analysis and Services Office, Centers for Disease Control and Prevention.

[FR Doc. 2011-3706 Filed 2-17-11; 8:45 am]

BILLING CODE 4163-18-P